DEPARTMENT OF COMMERCE

U.S. Census Bureau

Submission for OMB Review; Comment Request

The Department of Commerce will submit to the Office of Management and Budget (OMB) for clearance the following proposal for collection of information under the provisions of the Paperwork Reduction Act.

Agency: U.S. Census Bureau.

Title: Generic Clearance for Internet Nonprobability Panel Pretesting.

OMB Control Number: 0607-0978.

Form Number(s): TBD.

Type of Request: Extension of a Currently Approved Collection.

Number of Respondents: 60,000.

Average Hours per Response: 0.167.

Burden Hours: 10,000.

Needs and Uses: The information collected in this program of developing and testing questionnaires will be used by staff from the Census Bureau and sponsoring agencies to evaluate and improve the quality of the data in the surveys and censuses that are ultimately conducted. Because the questionnaires being tested under this clearance are still in the process of development, the data that result from these collections are not considered official statistics of the Census Bureau or other Federal agencies. Data will be included in research reports prepared for sponsors inside and outside of the Census Bureau. The results may also be prepared for presentations related to survey methodology at professional meetings or publications in professional journals. Since the submission of the 60 day notice, we have changed both the title and burden estimate for this collection. At the 60-day notice, the collection was entitled “Generic Clearance for Internet Nonprobability Panel Pretesting and Qualitative Survey Methods Testing.” To more accurately reflect the intended collection, we are renaming this collection “Generic Clearance for Medium-Scale Pretesting.” We are requesting an increase in hours from 8,334 to 16,900 annually because we incorporated the pretesting needs for the 2020 Census communications campaign into this request.

Affected Public: Individuals and households.

Frequency: Once.

Respondent's Obligation: Voluntary.

Legal Authority: Data collection for this project is authorized under the authorizing legislation for the questionnaire being tested. This may be Title 13, Sections 131, 141, 161, 181, 182, 193, and 301 for Census Bureau-sponsored surveys, or other corresponding collection authorities for surveys sponsored by other Federal agencies. We do not now know what other titles will be referenced, since we do not know what survey questionnaires will be pretested during the course of the clearance.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2017-13280 Filed 6-23-17; 8:45 am]

BILLING CODE 3510-07-P